DEPARTMENT OF TRANSPORTATION

Federal Aviation Administration

14 CFR Part 71

[Docket No. FAA-2018-1025; Airspace Docket No. 18-AEA-7]

RIN 2120-AA66

Amendment of Area Navigation (RNAV) Route T-299, and Establishment of T-318 and T-360; Eastern United States

AGENCY: Federal Aviation Administration (FAA) DOT.

ACTION: Proposed rule; withdrawal.

SUMMARY: The FAA is withdrawing the NPRM published in the Federal Register on December 28, 2018, proposing to amend United States Area Navigation (RNAV) route T-299, and establish T-318 and T-360 in support of transitioning the National Airspace System (NAS) from ground-based to satellite-based navigation.

DATES: Effective as of 0901 UTC, July 17, 2023, the proposed rule published December 28, 2018 (83 FR 67160), is withdrawn.

FOR FURTHER INFORMATION CONTACT: Paul Gallant, Rules and Regulations Group, Office of Policy, Federal Aviation Administration, 800 Independence Avenue SW, Washington, DC 20591; telephone: (202) 267-8783.

SUPPLEMENTARY INFORMATION:

Reason for Withdrawal

The FAA published a notice of proposed rulemaking in the Federal Register for Docket No. FAA-2018-1025 (83 FR 67160; December 28, 2018). The NPRM proposed to amend RNAV route T-299 and establish routes T-318 and T-360 to support the transition of the NAS to satellite-based navigation. Interested parties were invited to participate in this rulemaking effort by submitting written comments on the proposal. No comments were received. Subsequent to the NPRM, other airway docket actions rendered this proposal unnecessary.

Conclusion

The FAA determined that the NPRM published on December 28, 2018, is unnecessary. Therefore, the FAA withdraws that NPRM.

Issued in Washington, DC, on July 11, 2023.
Karen L. Chiodini,
Acting Manager, Airspace Rules and Regulations.

[FR Doc. 2023-15003 Filed 7-14-23; 8:45 am]

BILLING CODE 4910-13-P